DEPARTMENT OF AGRICULTURE

Forest Service

Manti-La Sal National Forest; Utah; Revision of the Manti-La Sal National Forest Land Management Plan

AGENCY: Forest Service, USDA.

ACTION: Notice of intent to prepare an environmental impact statement.

SUMMARY: The USDA Forest Service is revising the Land Management Plan (LMP) for the Manti-La Sal National Forest and preparing an environmental impact statement (EIS). This notice describes the documents available for review and how to obtain them; summarizes the need for change to the existing LMP; identifies where a preliminary draft LMP (detailed proposed action) can be obtained; provides information concerning public participation and collaboration, including the process for submitting comments; provides an estimated schedule for the planning process, including the time available for comments; and includes the names and addresses of agency contacts who can provide additional information.

DATES: Comments concerning the preliminary need for change and the proposed action will be most useful in the development of the revised LMP and draft EIS if received by October 25, 2021. The draft revised LMP and draft EIS are expected summer 2022, and the final revised LMP and final EIS are expected summer 2023.

ADDRESSES: Visit the Manti-La Sal National Forest's planning website at: www.fs.usda.gov/main/mantilasal/landmanagement/planning for instructions on submitting comments using a webform, the preferred approach. Written comments can also be sent to Manti-La Sal National Forest, Attn: Forest Plan, 599 West Price River Drive, Price, UT 84501, via email to mlnfplanrevision@usda.gov, or via facsimile to (435) 637-4940.

FOR FURTHER INFORMATION CONTACT: Autumn Ela, Forest Planner, Manti-La Sal National Forest, 599 West Price River Drive, Price, Utah 84501, 435-210-1608 or autumn.ela@usda.gov.

Individuals who use telecommunication devices for the hearing-impaired (TDD) may call the Federal Information Relay Service (FIRS) at 1-800-877-8339 between 8 a.m. and 8 p.m., Eastern Daylight Time, Monday through Friday. More information on the planning process, including access to the preliminary draft proposed plan, the preliminary need for change, the Wild and Scenic River Eligibility Report, and the Wilderness Evaluation Report may be found at www.fs.usda.gov/main/mantilasal/landmanagement/planning.

SUPPLEMENTARY INFORMATION:

Nature of Decision To Be Made

The Manti-La Sal National Forest is preparing an EIS to revise the existing LMP. The EIS process is meant to inform the forest supervisor so he can decide which alternative best maintains and restores terrestrial and aquatic resources while providing ecosystem services and multiple uses on National Forest System lands as required by the National Forest Management Act and the Multiple Use Sustained Yield Act.

The revised LMP will describe the strategic intent of managing the Manti-La Sal National Forest for the next 10 to 15 years and will address the identified need for change to the existing LMP. The revised LMP will provide management direction in the form of desired conditions, objectives, standards, guidelines, and suitability of lands.

Identifying the types of decisions that will not be made within the revised LMP is important. The revised LMP will represent decisions that are strategic in natures but will not make site-specific project decisions and will not dictate the day-to-day administrative activities needed to carry on the Forest Service's internal operations. Although the authorization of project-level activities will be based on the guidance and direction contained in the revised LMP, analysis will occur through subsequent project-specific National Environmental Policy Act (NEPA) analysis and decision-making.

The revised LMP will provide broad, strategic guidance designed to supplement, not replace, overarching laws and regulations. Though strategic guidance will be provided, no decisions will be made regarding the management of individual roads or trails, such as those that might be associated with a travel management plan under 36 CFR 212. Some issues (e.g., hunting regulations), although important, are beyond the authority or control of the National Forest System and will not be considered. No decision regarding oil and gas leasing availability will be made, though standards will be brought forward or developed that would serve as mitigation should an availability decision be necessary in the future.

Purpose and Need and Preliminary Need for Change

According to the National Forest Management Act (NFMA), LMPs are to be revised on a 10- to 15-year cycle. The purpose and need for revising the current LMP is (1) the LMP is over 35 years old, (2) since the LMP was approved in 1986, there have been changes in economic, social, and ecological conditions, new policies and priorities, and new information based on monitoring and scientific research, and (3) to address the identified need for change to the existing LMP (summarized below). Extensive public and employee involvement and science-based evaluations have helped to identify the need for change to the existing LMP.

The complete description of the preliminary need for change is available for review on the plan revision website at: www.fs.usda.gov/main/mantilasal/landmanagement/planning. The needs for change have been organized into four topics:

1. Legal and Regulatory Environment

There is a need to change the current LMP to bring it into compliance with the law, regulation, and policy. Examples include the need to revise the plan every 15 years (NFMA 16 U.S.C. 1604(i)); there is a need to identify lands not suitable for timber production (NFMA 16 U.S.C. 1604(k)); there is a need to inform the LMP with the best available scientific information (2012 Planning Rule at 219.3).

2. Resource Management Themes

There is a need to change the current LMP to address numerous resource management themes identified by monitoring; by trends described in the assessment; and by public, cooperating agency, and tribal comments. Seven themes were identified: (1) Recreation Management; (2) Access and Transportation Infrastructure; (3) Watershed Health; (4) Forest Vegetation Management; (5) Rangeland Health; (6) Terrestrial and Aquatic Species Habitats; and (7) Energy and Minerals Management.

3. Social and Environmental Conditions

There is a need to change the current LMP to address social and environmental conditions that have the potential to affect the National Forest. These items may not be under the agency's direct control but may influence our ability to effectively carry out our mission. Six conditions have been identified: (1) Areas of Tribal Importance: Maintain Tribal partnerships to protect traditional properties and uses; (2) Climate: Monitor effect of changing conditions on critical resources; (3) Cultural and Historic Resources: Avoid destabilizing and destroying sites by surveying and monitoring; (4) Invasive Species: Mitigate establishment and spread through treatment and monitoring; (5) Wildfire: Protect human health and safety while managing natural fire; and (6) Wildlife: Provide conditions to maintain populations while managing for multiple uses.

4. Topics the New LMP Will Not Cover

A revised LMP does not commit the Manti-La Sal National Forest to any site-specific action, does not it change boundaries set by legislation or rulemaking, and does not affect valid existing rights.

The preliminary need to change information has led to development of the “Proposal to Revise the Land Management Plan.” Public review and comments on these documents will help the Manti-La Sal National Forest's responsible official and planning team refine the need to change the LMP and develop a proposed revised LMP that will be analyzed in a draft EIS.

Proposed Action

The proposed action is to revise the current LMP to address the above-identified needs for change to the existing LMP. Alternatives to the proposed action will be developed to address the significant issues that will be identified through scoping. In response to the above needs for change, a preliminary draft LMP has been developed. This more fully developed description of the proposed action is available for review at: www.fs.usda.gov/main/mantilasal/landmanagement/planning.

Lead and Cooperating Agencies

The Manti-La Sal National Forest is the lead agency for the environmental analysis process during the revision of the LMP. The following entities have been formally identified as cooperating agencies: Carbon, Grand, Juab, San Juan, Sanpete, Sevier, and Utah counties in Utah; Montrose County in Colorado; the State of Utah Public Lands Policy Coordination Office; Juab, Price River, San Juan, Sanpete, San Rafael, and Sevier Conservation Districts; Town of Castle Valley; cities of Monticello and Blanding; and the National Park Service. No formal agreements exist with Native American Tribes, but they are treated like cooperators because of their sovereign status.

Responsible Official

Ryan Nehl, Forest Supervisor, Manti-La Sal National Forest

Scoping Comments and the Objection Process

This notice of intent initiates the scoping process which guides the development of the EIS. Written comments received in response to this notice will be analyzed to complete the identification of the need for change to the existing LMP, further develop the proposed action (preliminary draft LMP) and identify potential significant issues. Significant issues will, in turn, form the basis for developing alternatives to the proposed action.

Reviewers should provide comments at such times and in such a manner that they are useful to the agency's preparation of the environmental impact statement. Therefore, comments are best provided prior to the close of the comment period and should clearly articulate the reviewer's concerns and contentions. Comments received in response to this notice, including the names and addresses of persons and organizations who comment, will be part of the public record. Comments submitted anonymously will be accepted and considered, however, they will not be used to establish standing for the objection process. Additionally, anonymous comments will not provide the Manti-La Sal National Forest with the ability to provide the respondent with subsequent environmental documents.

For information on when public meetings will be scheduled for refining the proposed action and identifying possible alternatives to the proposed action, refer to the website: www.fs.usda.gov/main/mantilasal/landmanagement/planning.

The decision to approve the revised LMP for the Manti-La Sal National Forest will be subject to the objection process identified in 36 CFR 219 subpart B (219.50 to 219.62). According to 36 CFR 219.53(a), parties eligible to file an objection are individuals and entities who have submitted substantive formal comments related to plan revision during the opportunities provided for public comment during the planning process. The burden is on the objector to demonstrate compliance with requirements for objections (36 CFR 219.53).

Applicable Planning Rule

Preparation of the revised LMP for the Manti-La Sal National Forest began with the publication of a notice of assessment initiation in the Federal Register on July 29, 2016 (81 FR 49925) and was initiated under the planning procedures contained in the 2012 Planning Rule (36 CFR 219 (2012)).

Dated: August 20, 2021.
Barnie Gyant,
Associate Deputy Chief, National Forest System.

[FR Doc. 2021-18309 Filed 8-24-21; 8:45 am]

BILLING CODE 3411-15-P